DEPARTMENT OF HOMELAND SECURITY

Coast Guard

33 CFR Part 100

[Docket No. USCG-2025-0174]

Special Local Regulations; Charleston Race Week, Charleston, SC

AGENCY: Coast Guard, DHS.

ACTION: Notification of enforcement of regulation.

SUMMARY: The Coast Guard will enforce special local regulations for the Charleston Race Week from April 9, 2025, through April 13, 2025, to provide for the safety of life on navigable waterways during this event. Our regulation for marine events within the Seventh Coast Guard District identifies the regulated area for this event in Charleston, SC. During the enforcement period, no person or vessel may enter, transit through, anchor in, or remain within the designated area unless authorized by the Captain of the Port Charleston (COTP) or a designated representative.

DATES: The regulations in 33 CFR 100.704 will be enforced for the Charleston Race Week regulated area listed in item 2 in Table 1 to § 100.704 daily from 9:30 a.m. to 4:30 p.m. on April 9, 2025, through April 13, 2025.

FOR FURTHER INFORMATION CONTACT: If you have questions about this notification of enforcement, call or email Chief Marine Science Technician Tyler M. Campbell, Sector Charleston, Waterways Management Division, U.S. Coast Guard; telephone (843) 740-3184, email Tyler.M.Campbell@uscg.mil.

SUPPLEMENTARY INFORMATION: The Coast Guard will enforce special local regulations in 33 CFR 100.704 for the Charleston Race Week regulated area listed in item 2 in Table 1 to § 100.704, daily from 9:30 a.m. to 4:30 p.m. on April 9, 2025, through April 13, 2025. This action is being taken to provide for the safety of life on navigable waterways during this 5-day event. Our regulation for marine events within the COTP Charleston Zone in item 2 in Table 1 to § 100.704, specifies the location of the regulated area for the Charleston Race Week which encompasses portions of Charleston Harbor. During the enforcement periods, as reflected in § 100.704(c), if you are the operator of a vessel in the regulated area you must comply with directions from the Patrol Commander or any Official Patrol displaying a Coast Guard ensign.

In addition to this notification of enforcement in the Federal Register, the Coast Guard plans to provide notification of this enforcement period via the Local Notice to Mariners, and marine information broadcasts.

F.J. DelRosso,
Captain, U.S. Coast Guard, Captain of the Port Sector Charleston.

[FR Doc. 2025-05558 Filed 3-31-25; 8:45 am]

BILLING CODE 9110-04-P